DEPARTMENT OF STATE

[Public Notice 5098]

United States International Telecommunication Advisory Committee; Request for Comments on the Working Group on Internet Governance Report

The Department of State announces a request for comments on the report of the Working Group on Internet Governance, which is scheduled to be released to the public on July 18, 2005. The UN Working Group on Internet Governance (WGIG), created by Phase 1 of the WSIS, was tasked “to investigate and make proposals for action, as appropriate, on the governance of Internet by 2005.” The text of the report will be available at http://www.wgig.org or on the Department of State's World Summit on the Information Society (WSIS) Web site at http://www.state.gov/e/eb/cip/wsis2005.

The Department of State will be accepting comments from the public on the WGIG report through August 1, 2005. Comments should be sent to Sally Shipman, International Communications and Information Policy, at shipmansa@state.gov.

In addition, according to the decision of PrepCom II, all governments and other stakeholders are invited to submit written comments and proposals on the issue of Internet governance to the WSIS Executive Secretariat (to wsis-contributions@itu.int) by August 15. Thereafter, a compilation of these contributions will be forwarded to the WSIS PrepCom III, together with the report of the WGIG.

Dated: June 20, 2005.
Anne Jillson,
Foreign Affairs Officer, International Communications and Information Policy, Department of State.

[FR Doc. 05-12668 Filed 6-24-05; 8:45 am]

BILLING CODE 4710-07-P